DEPARTMENT OF TRANSPORTATION

Federal Aviation Administration

14 CFR Part 39

[Docket No. FAA-2009-0331; Directorate Identifier 2008-NE-40-AD]

RIN 2120-AA64

Airworthiness Directives; Honeywell International Inc. TFE731 Series Turbofan Engines

AGENCY: Federal Aviation Administration (FAA), Department of Transportation (DOT).

ACTION: Notice of proposed rulemaking (NPRM).

SUMMARY: The FAA proposes to adopt a new airworthiness directive (AD) for Honeywell International Inc. TFE731 series turbofan engines with certain second and third stage low-pressure compressor rotor (LPCR) discs installed. This proposed AD would require removing from service, certain second and third stage LPCR discs, part numbers (P/Ns) 3072396-1, 3072397-1, 3075109-1, or 2075192-1. This proposed AD results from a report of cracks found during a fluorescent penetrant inspection (FPI) of the disc bore. We are proposing this AD to prevent an uncontained failure of a second and third stage LPCR disc due to cracks in the bore, which could result in damage to the airplane.

DATES: We must receive any comments on this proposed AD by June 12, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You can get the service information identified in this proposed AD from Honeywell Engines and Systems Technical Publications and Distribution, M/S 2101-201, P.O. Box 52170, Phoenix, AZ 85072-2170, telephone: Global Customer Care toll free (800) 601-3099; International callers (602) 365-3099.

FOR FURTHER INFORMATION CONTACT: Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210.

SUPPLEMENTARY INFORMATION:

Comments Invited

We invite you to send us any written relevant data, views, or arguments regarding this proposal. Send your comments to an address listed under ADDRESSES. Include “Docket No. FAA-2009-0331; Directorate Identifier 2008-NE-40-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

A routine FPI of a second stage LPCR disc, P/N 3072396-1, revealed three indications in the disc bore. The LPCR disc had accumulated 6,874 cycles-since-new (CSN). All three indications were determined to be cracks initiating from a titanium hard-alpha inclusion incurred during the alloy melting process. Oremet Corporation produced the heat lot, which was part of Heat No. WRT2053, in January 1982. We have determined that other second and third stage LPCR discs made from the same heat lot might also contain similar inclusions that could adversely affect the lives of those LPCR discs. Based on billet stacking and billet orientation, six discs were determined to be adjacent or near the cracked disc. We propose more expedient corrective action for these higher-risk discs than other LPCR discs made from the same heat lot. This condition, if not corrected, could result in an uncontained failure of a second and third stage LPCR disc due to cracks in the bore, which could result in damage to the airplane.

Relevant Service Information

We have reviewed and approved the technical contents of Honeywell International Inc. Alert Service Bulletins (ASBs) TFE731-72-A3748, dated August 21, 2008, and TFE731-72-A3749, dated August 21, 2008. Those ASBs describe procedures for removing certain second and third stage LPCR discs specified by serial number (SN) in the ASBs.

Differences Between the Proposed AD and the Manufacturer's Service Information

Alert Service Bulletins TFE731-72-A3748, dated August 21, 2008, and TFE731-72-A3749, dated August 21, 2008, require removing at the next access, second and third stage LPCR discs that have an SN specified in Table 5 or Table 6 of those ASBs. This proposed AD would require removing those discs that have an SN specified in Table 5 within 100 cycles-in-service (CIS) after the effective date of the proposed AD or at the next access, whichever occurs first. This proposed AD would require removing those discs that have an SN specified in Table 6 within 2,000 CIS after the effective date of the proposed AD or at the next access, whichever occurs first.

FAA's Determination and Requirements of the Proposed AD

We have evaluated all pertinent information and identified an unsafe condition that is likely to exist or develop on other products of this same type design. We are proposing this AD, which would require removing from service engines with LPCR discs that have SN:

• In Table 5 of ASBs TFE731-72-A3748, dated August 21, 2008, or TFE731-72-A3749, dated August 21, 2008, within 100 CIS after the effective date of this proposed AD, and

• In Table 6 of ASBs TFE731-72-A3748, dated August 21, 2008, or TFE731-72-A3749, dated August 21, 2008, within 2,000 CIS or the next access after the effective date of this proposed AD, whichever occurs first.

The proposed AD would require you to use the service information described previously to perform these actions.

Costs of Compliance

We estimate that this proposed AD would affect 27 engines installed on airplanes of U.S. registry. We also estimate that it would take about 4 work-hours per engine to perform the proposed actions during scheduled maintenance and 140 work-hours per engine for the proposed actions during unscheduled maintenance. The average labor rate is $80 per work-hour. Required parts would cost about $31,000 per engine. Based on these figures, we estimate the total cost of the proposed AD to U.S. operators to be $900,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have Federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (Formerly AlliedSignal Inc., formerly Garret Turbine Engine Company): Docket No. FAA-2009-0331; Directorate Identifier 2008-NE-40-AD.

Comments Due Date

(a) The Federal Aviation Administration (FAA) must receive comments on this airworthiness directive (AD) action by June 12, 2009.

Affected ADs

(b) None.

Applicability

(c) This AD applies to Honeywell International Inc. TFE731-2, TFE731-2A, TFE731-2C, TFE731-3, TFE731-3A, TFE731-3AR, TFE731-3B, TFE731-3BR, TFE731-3C, TFE731-3CR, TFE731-3D, TFE731-3DR, TFE731-3R, TFE731-4, TFE731-4R, TFE731-5, TFE731-5AR, TFE731-5BR, and TFE731-5R series turbofan engines with certain low-pressure compressor rotor (LPCR) discs, part number (P/Ns) 3072396-1, 3072397-1, 3075190-1, or 2075192-1, installed. These engines are installed on, but not limited to, the airplanes listed in Table 1 of this AD.

Table 1—Installed on Airplanes by Manufacturer
Manufacturer | Model
Dassault-Aviation or Dassault Aviation | Falcon 10 (Falcon 100) and Mystere-Falcon 20, 50, 900 and MF900 series.
Cessna Aircraft Company | Model 650, Citation III, VI, and VII.
Gulfstream Aerospace LP | 1125 Westwind Astra.
Israel Aircraft Industries | 1124 and 1124A (Westwind).
Learjet Inc. | 31, 31A, 35, 35A, 36, 36A, 55, 55B, 55C, and M31.
Lockheed Martin Corporation (formerly Lockheed-Georgia) | 1329-23A, 1329-23D, 1329-23E, and 1329-25.
Raytheon Corporate Jets (formerly British Aerospace and Hawker Beechcraft Corporation) | DH.125 Series 1A, 3A, and 3A/RA, HS.125 Series F3B and F3B/RA, BH.125 and DH.125 Series 400A, HS.125 Series 403B, F400B, and F403B, HS.125 Series 600A, BH.125 Series 600A, HS.125 Series F600B, 700A, and 700B, BAe.125 Series 800 and 1000, and Hawker 800 and 850XP series.

Unsafe Condition

(d) This AD results from a report of cracks found during a fluorescent penetrant inspection (FPI) of the disc bore. We are issuing this AD to prevent an uncontained failure of a second and third stage LPCR disc due to cracks in the bore, which could result in damage to the airplane.

Compliance

(e) You are responsible for having the actions required by this AD performed within the compliance times specified unless the actions have already been done.

Removing LPCR Discs from Service

(f) For engines with a second and third stage LPCR disc that has a serial number (SN) listed in Table 5 of Honeywell International Inc. Alert Service Bulletins (ASBs) TFE731-72-A3748, dated August 21, 2008, or TFE731-72-A3749, dated August 21, 2008, remove the second and third stage LPCR disc from service within 100 cycles-in-service (CIS) after the effective date of this AD.

(g) For engines with a second and third stage LPCR disc that has an SN listed in Table 6 of Honeywell International Inc. ASBs TFE731-72-A3748, dated August 21, 2008, or TFE731-72-A3749, dated August 21, 2008, do the earlier of the following:

(1) Remove the second and third stage LPCR disc from service within 2,000 CIS after the effective date of this AD, or

(2) Remove the second and third stage LPCR disc from service the next time the intermediate case is removed from the LPC case.

Installation Prohibition

(h) After the effective date of this AD, don't install any second and third stage LPCR disc removed as required in paragraphs (f) or (g) of this AD.

Alternative Methods of Compliance

(i) The Manager, Los Angeles Aircraft Certification Office, has the authority to approve alternative methods of compliance for this AD if requested using the procedures found in 14 CFR 39.19.

Related Information

(j) Contact Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210, for more information about this AD.

(k) Honeywell International Inc. ASBs TFE731-72-A3748, dated August 21, 2008, and TFE731-72-A3749, dated August 21, 2008, pertain to the subject of this AD. Contact Honeywell Engines and Systems Technical Publications and Distribution, M/S 2101-201, P.O. Box 52170, Phoenix, AZ 85072-2170, telephone: Global Customer Care toll free (800) 601-3099; International callers (602) 365-3099, for a copy of this service information.

Issued in Burlington, Massachusetts, on April 6, 2009.
Peter A. White,
Assistant Manager, Engine and Propeller Directorate, Aircraft Certification Service.

[FR Doc. E9-8309 Filed 4-10-09; 8:45 am]

BILLING CODE 4910-13-P